DEPARTMENT OF THE INTERIOR

Bureau of Indian Affairs

DEPARTMENT OF HEALTH AND HUMAN SERVICES

Indian Health Service

Renewal of Agency Information Collection for Indian Self-Determination and Education Assistance Contracts

AGENCIES: Bureau of Indian Affairs, Department of the Interior, and Indian Health Service, Department of Health and Human Services.

ACTION: Notice of request for comments.

SUMMARY: The Department of the Interior and the Department of Health and Human Services announce a request for comments concerning renewal of 1076-0136, the Information Collection Request used for Indian Self-Determination and Education Assistance actions. The information collection will be used to process contracts, grants or cooperative agreements for award by the Bureau of Indian Affairs and the Indian Health Service as authorized by the Indian Self-Determination and Education Assistance Act, as amended, and as set forth in 25 CFR part 900. The Department of the Interior and the Department of Health and Human Services invite comment on the information collection described below.

DATES: Interested persons are invited to submit comments on or before August 19, 2003.

ADDRESSES: If you wish to comment, you may submit your comments to Lena Mills, Office of Tribal Services, Bureau of Indian Affairs, Department of the Interior, 1951 Constitution Avenue, NW., MS 320-SIB, Washington, DC 20240. You may telefax comments on this information collection to (202) 208-5113. You may also hand deliver written comments or view comments at the same address.

FOR FURTHER INFORMATION CONTACT: Lena Mills, Office of Tribal Services, Bureau of Indian Affairs, (202) 513-7612. You may obtain a copy of this information collection document at no charge by a written request to the same address, by telefaxing a request to the above number, or by calling (202) 513-7612. Please identify the information collection by the number 1076-0136.

SUPPLEMENTARY INFORMATION: The Department of the Interior and the Department of Health and Human Services developed a joint rule, 25 CFR part 900, to implement section 107 of the Indian Self-Determination and Education Assistance Act, as amended, and Title I, Public Law 103-413, the Indian Self-Determination Contract Reform Act of 1994. Section 107(a)(2) (A)(ii) of the Indian Self-Determination Contract Reform Act requires the joint rule to permit contracts and grants to be awarded to Indian tribes without the unnecessary burden or confusion associated with two sets of rules and information collection requirements when there is a single program legislation involved. The Bureau of Indian Affairs and the Indian Health Service expect that the base burden hours for complying with this Information Collection Request, OMB 1076-0136, will be reduced overall by approximately 20 percent during the contract renewal process. The reduction in the number of base burden hours associated with information collection requirements of 25 CFR part 900 results form the following three factors:

(1) More tribes are contracting under 25 CFR 900.8, which permits tribes to contract several programs under a single contract;

(2) The number of self-governance tribes has increased. Self-governance tribes may combine all programs under a single self-governance compact;

(3) The majority of contracts awarded are renewal contracts, which take considerably less time to complete than new contracts and therefore substantially decrease time spent under subpart C.

The information requirements for this joint rule differ from those of other agencies. Both the Bureau of Indian Affairs and the Indian Health Service let contracts for multiple programs, whereas other agencies usually award single grants to tribes. Under the Indian Self-Determination and Education Assistance Act, as amended, and the Indian Self-Determination Contract Reform Act of 1994, tribes are entitled to contract and may renew contracts annually with the Bureau of Indian Affairs and the Indian Health Service, whereas other agencies provide grants on a discretionary or competitive basis.

The proposal and other supporting documentation identified in this information collection are used by the Department of the Interior and the Department of Health and Human Services to determine applicant eligibility, evaluate applicant capabilities, protect the service population, safeguard Federal funds and other resources, and permit the Federal agencies to administer and evaluate contract programs. Tribal governments or tribal organizations provide the information by submitting Public Law 93-638 contract or grant proposals to the appropriate Federal agency. No third-party notification or public disclosure burden is associated with this collection.

Request for Comments

The Department of the Interior and the Department of Health and Human Services request comments on this information collection particularly concerning:

(1) The necessity of the information collection for the proper performance of the agencies functions;

(2) Whether this information collection duplicates a collection elsewhere by the federal government;

(3) Whether the burden estimate is accurate or could be reduced using technology available to all respondents;

(4) If the quality of the information requested ensures its usefulness to the agencies;

(5) If the instructions are clear and easily understood, leading to the least burden on the respondents.

Burden Statement

Each respondent is required to respond from 1 to 12 times per year, depending upon the number of programs it contracts from the Bureau of Indian Affairs and Indian Health Service. In addition, each subpart concerns information collection for different parts of the contracting process. For example, subpart C relates to initial contract proposal contents. Information collection for subpart C would be unnecessary when contracts are renewed. Subpart F describes minimum standards for the management systems used by Indian tribes or tribal organizations under these contracts. Subpart G addresses the negotiability of all reporting and data requirements in the contract.

Total annual burden: 191,174 hours.

Total number of respondents: 550.

Total number of responses: 5,507.

Dated: June 13, 2003.
Aurene M. Martin,
Acting Assistant Secretary—Indian Affairs, Department of the Interior.
Dated: April 30, 2003.
Duane Jeanotte,
Acting Director of Headquarters Operations, Department of Health and Human Services.

[FR Doc. 03-15608 Filed 6-19-03; 8:45 am]

BILLING CODE 4310-4J-P